DEPARTMENT OF AGRICULTURE

Forest Service

Black Hills National Forest, Bearlodge Ranger District, WY and Northern Hills Ranger District, SD, North Zone Range 08 Analysis

AGENCY: Forest Service, USDA.

ACTION: Notice of intent to prepare an environmental impact statement.

SUMMARY: The Forest Service proposes to revise Rangeland Allotment Management Plans (RAMP) for ten allotments comprising approximately 92,800 acres within two Ranger Districts of the Black Hills National Forest and analyze continuation of grazing within the constraints of the Revised Black Hills National Forest Land and Resource Management Plan, as amended (BHNF LRMP).

DATES: Comments concerning the scope of the analysis must be received by December 3, 2007. The draft environmental impact statement is expected April 2008 and the final environmental impact statement is expected August 2008.

ADDRESSES: Send written comments to Rhonda O'Byrne, Northern Hills Ranger District, 2014 N. Main, Spearfish, SD 57783. Comment may also be submitted by e-mail to: comments-rocky-mountain-black-hills-northern-hills@fs.fed.us with “North Zone Range 08” as subject.

FOR FURTHER INFORMATION CONTACT: Tom Smith at Northern Hills Ranger District, 2014 N. Main, Spearfish, SD 57783, phone (605) 642-4622; or Julie Wheeler at Bearlodge Ranger District, P.O. Box 680, Sundance, WY 82729, phone (307) 283-1361.

SUPPLEMENTARY INFORMATION:

Purpose and Need for Action

The purpose of the project is to authorize livestock grazing in an environmentally acceptable manner. The EIS will determine current conditions, analyze environmental consequences of grazing management actions on those conditions, and assist the decision maker in selecting management/monitoring strategies consistent with meeting desired conditions in the BHNF LRMP, including Goals 1, 2 and 3. The need for the action is to revise allotment management plans, reverse any existing undesirable conditions, and ensure that authorized uses and associated management activities move them towards desired BHNF LRMP conditions. There is also a need to respond to requests for grazing permits on lands not currently being grazed.

Proposed Action

The Northern Hills and Bearlodge Ranger Districts propose to implement best management practices and activities with adaptive management and monitoring strategies to allow livestock grazing consistent with Forest Plan desired conditions, standards and guidelines.

Possible Alternatives

The Current Management Alternative would not change current permitted livestock grazing. The No Grazing Alternative would eliminate any livestock grazing on the project area.

Responsible Official

The Responsible Official for the allotments on the Bearlodge Ranger District is Steve Kozel, District Ranger, Black Hills National Forest, Bearlodge Ranger District, 121 S. 21st Street, Sundance, Wyoming 82729. The Responsible Official for the allotments on the Northern Hills Ranger District is Rhonda O'Byrne, District Ranger, Black Hills National Forest, Northern Hills Ranger District, 2014 N. Main St., Spearfish, South Dakota 57783.

Nature of Decision To Be Made

The decision to be made is whether to continue to permit livestock grazing on all, part, or none of these allotments and, if so, under what terms and conditions to ensure that desired condition objectives are met, or that movement occurs toward those objectives. Whether or not to allow livestock grazing on three recently acquired parcels and one vacant grazing unit will also be decided, and if so, under what conditions.

Scoping Process

Comments and input regarding the proposal are currently being requested from the public, other groups and agencies via direct mailing. Comments are due by December 3, 2007. Response to the draft EIS will be sought from the interested public in May and June 2008.

Comment Requested

This notice of intent initiates the scoping process which guides the development of the environmental impact statement. It is the District's desire to involve interested parties in identifying the issues related to grazing management. Comments will help the planning team identify key issues used to develop adaptive management tools, monitoring strategies, and alternatives. Persons who submitted comments previously need not resubmit those same comments in response to this request. Comments submitted previously will continue to be considered.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, section 21)

Dated: October 30, 2007.
Craig Bobzien,
Forest Supervisor, Black Hills National Forest.

[FR Doc. 07-5467 Filed 11-2-07; 8:45 am]

BILLING CODE 3410-11-M